ENVIRONMENTAL PROTECTION AGENCY

[FRL-6536-8]

Meeting of the Small Community Advisory Subcommittee

AGENCY: Environmental Protection Agency (EPA).

ACTION: Notice.

SUMMARY: The Small Community Advisory Subcommittee will meet on March 2 and 3, 2000, in Dallas, TX.

The Small Community Advisory Subcommittee was established by the U.S. Environmental Protection Agency as a standing subcommittee of the Local Government Advisory Committee. The March meeting will focus on Small Town Sustainable Community Development; the Agency's implementation of Executive Order 13132 on Federalism; and implementation of section 109(d) of the small town Environmental Planning Act of 1992.

The Committee will hear comments from the public between 9:00 a.m. and 9:15 a.m. on March 2, 2000. Each individual or organization wishing to address the Committee will be allowed a minimum of three minutes. Please contact the Designated Federal Officer (DFO) at the number listed below to schedule agenda time. Time will be allotted on a first come, first serve basis.

This is an open meeting and all interested persons are invited to attend. Meeting minutes will be available after the meeting and can be obtained by written request from the DFO. Members of the public are requested to call the DFO at the number listed below if planning to attend so that arrangements can be made to comfortably accommodate attendees as much as possible. However, seating will be on a first come, first serve basis.

DATES: The meeting will begin at 8:30 a.m. on Thursday, March 2 and conclude at 5:00 p.m. on the March 3.

ADDRESSES: The meetings will be held at the Magnolia Hotel located at 1401 Commerce Street, Dallas, TX 75201.

Requests for Minutes and other information can be obtained by writing the DFO at 1200 Pennsylvania Ave., NW (1306), Washington, DC 20460.

FOR FURTHER INFORMATION CONTACT: The DFO for this Subcommittee is Steven Wilson. He is the point of contact for information concerning any Subcommittee matters and can be reached by calling (202) 564-3646.

Dated: February 8, 2000.
Steven Wilson,
Designated Federal Officer, Small Community Advisory Subcommittee.

[FR Doc. 00-3488 Filed 2-14-00; 8:45 am]

BILLING CODE 6560-50-P